COMMITTEE FOR PURCHASE FROM PEOPLE WHO ARE BLIND OR SEVERELY DISABLED

Procurement List; Additions

AGENCY: Committee for Purchase from People Who Are Blind or Severely Disabled.

ACTION: Additions to Procurement List.

SUMMARY: This action adds to the Procurement List products and a service to be furnished by nonprofit agencies employing persons who are blind or have other severe disabilities.

EFFECTIVE DATE: November 10, 2002.

ADDRESS: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: On July 5, August 2, and August 9, 2002, the Committee for Purchase From People Who Are Blind or Severely Disabled published notice (67 FR 44808, 50416 and 51819) of proposed additions to the Procurement List.

After consideration of the material presented to it concerning capability of qualified nonprofit agencies to provide the products and service and impact of the additions on the current or most recent contractors, the Committee has determined that the products and service listed below are suitable for procurement by the Federal Government under 41 U.S.C. 46-48c and 41 CFR 51-2.4. I certify that the following action will not have a significant impact on a substantial number of small entities. The major factors considered for this certification were:

1. The action will not result in any additional reporting, recordkeeping or other compliance requirements for small entities other than the small organizations that will furnish the products and service to the Government.

2. The action will result in authorizing small entities to furnish the commodities and products and service to the Government.

3. There are no known regulatory alternatives which would accomplish the objectives of the Javits-Wagner-O'Day Act (41 U.S.C. 46-48c) in connection with the products and service proposed for addition to the Procurement List.

Accordingly, the following products and service are added to the Procurement List:

Products

Product/NSN: Cup, Paper, Disposable, Hot

7350-00-NIB-0177

7350-00-NIB-0178

NPA: The Lighthouse for the Blind in New Orleans, New Orleans, Louisiana

Contract Activity: GSA, General Products Center, Fort Worth, Texas

Product/NSN: Paper, Toilet Tissue, 48 Ct., 2-ply

8540-00-NIB-0043

NPA: Outlook-Nebraska, Incorporated, Fremont, Nebraska

Contract Activity: Office Supplies & Paper Products Acquisition Center, New York, New York

Service

Service Type/Location: Janitorial & Related Services, Social Security Administration, Southeastern Program Service Center, Birmingham, Alabama

NPA: Alabama Goodwill Industries, Inc., Birmingham, Alabama

Contract Activity: Social Security Administration, Baltimore, Maryland

This action does not affect current contracts awarded prior to the effective date of this addition or options that may be exercised under those contracts.

G. John Heyer,
General Counsel.

[FR Doc. 02-26033 Filed 10-10-02; 8:45 am]

BILLING CODE 6353-01-P